DEPARTMENT OF TRANSPORTATION

Federal Aviation Administration

14 CFR Part 39

[Docket No. FAA-2018-0706; Product Identifier 2018-NM-086-AD; Amendment 39-19612; AD 2019-07-01]

RIN 2120-AA64

Airworthiness Directives; Dassault Aviation Airplanes

AGENCY: Federal Aviation Administration (FAA), Department of Transportation (DOT).

ACTION: Final rule.

SUMMARY: We are adopting a new airworthiness directive (AD) for certain Dassault Aviation Model FAN JET FALCON and FAN JET FALCON SERIES C, D, E, F, and G airplanes. This AD was prompted by a determination of the need for a revision to the airplane airworthiness limitations to introduce changes to the maintenance requirements and airworthiness limitations. This AD requires revising the existing maintenance or inspection program, as applicable, to incorporate new or more restrictive airworthiness limitations and maintenance requirements. We are issuing this AD to address the unsafe condition on these products.

DATES: This AD is effective May 24, 2019.

The Director of the Federal Register approved the incorporation by reference of a certain publication listed in this AD as of May 24, 2019.

ADDRESSES: For service information identified in this final rule, contact Dassault Falcon Jet Corporation, Teterboro Airport, P.O. Box 2000, South Hackensack, NJ 07606; telephone 201-440-6700; internet http://www.dassaultfalcon.com. You may view this service information at the FAA, Transport Standards Branch, 2200 South 216th St., Des Moines, WA. For information on the availability of this material at the FAA, call 206-231-3195. It is also available on the internet at http://www.regulations.gov by searching for and locating Docket No. FAA-2018-0706.

Examining the AD Docket

You may examine the AD docket on the internet at http://www.regulations.gov by searching for and locating Docket No. FAA-2018-0706; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Tom Rodriguez, Aerospace Engineer, International Section, Transport Standards Branch, FAA, 2200 South 216th St., Des Moines, WA 98198; telephone and fax 206-231-3226.

SUPPLEMENTARY INFORMATION:

Discussion

We issued a notice of proposed rulemaking (NPRM) to amend 14 CFR part 39 by adding an AD that would apply to certain Dassault Aviation Model FAN JET FALCON and FAN JET FALCON SERIES C, D, E, F, and G airplanes. The NPRM published in the Federal Register on August 10, 2018 (83 FR 39628). The NPRM was prompted by a determination of the need for a revision to the airplane airworthiness limitations to introduce changes to the maintenance requirements and airworthiness limitations. The NPRM proposed to require revising the existing maintenance or inspection program, as applicable, to incorporate new or more restrictive airworthiness limitations and maintenance requirements.

We are issuing this AD to address among other things, fatigue cracking and damage in principal structural elements; such fatigue cracking and damage could result in reduced structural integrity of the airplane.

The European Aviation Safety Agency (EASA), which is the Technical Agent for the Member States of the European Union, has issued EASA AD 2018-0083, dated April 16, 2018 (referred to after this as the Mandatory Continuing Airworthiness Information, or “the MCAI”), to correct an unsafe condition for certain Dassault Aviation Model FAN JET FALCON and FAN JET FALCON SERIES C, D, E, F, and G airplanes. The MCAI states:

The airworthiness limitations and certification maintenance instructions for the Dassault Fan Jet Falcon aeroplanes, which are approved by EASA, are currently defined and published in the Dassault Fan Jet Falcon Aircraft Maintenance Manual (AMM) chapter 5-40. These instructions have been identified as mandatory for continued airworthiness.

Failure to accomplish these instructions could result in an unsafe condition [among other things, fatigue cracking and damage in principal structural elements; such fatigue cracking and damage could result in reduced structural integrity of the airplane].

Consequently, EASA issued AD 2014-0021 [which corresponds to FAA AD 2014-26-07, Amendment 39-18058 (80 FR 2815, January 21, 2015) (“AD 2014-26-07”)] to require accomplishment of the maintenance tasks, and implementation of the airworthiness limitations, as specified in Dassault Fan Jet Falcon AMM chapter 5-40 Revision 15.

Since that [EASA] AD was issued, Dassault issued Revision 17 of the Dassault Fan Jet Falcon AMM chapter 5-40, which introduces new and more restrictive maintenance requirements and/or airworthiness limitations.

For the reason described above, this [EASA] AD retains the requirements of EASA AD 2014-0021, which is superseded, and requires accomplishment of the actions specified in Revision 17 of the Dassault Fan Jet Falcon AMM chapter 5-40, (hereafter referred to as `the ALS' in this [EASA] AD).

You may examine the MCAI in the AD docket on the internet at http://www.regulations.gov by searching for and locating Docket No. FAA-2018-0706.

Comments

We gave the public the opportunity to participate in developing this final rule. The following presents the comments received on the NPRM and the FAA's response to each comment.

Request To Withdraw NPRM

Kalitta Charters, LLC, (Kalitta) implied that the NPRM did not include a valid unsafe condition to justify the issuance of an AD. The commenter stated that the unsafe condition specified in the NPRM is based on speculation. The commenter remarked that the AD docket does not include evidence of actual fatigue cracking or any other indicators of possible conditions that indicate the existence of an actual potential problem.

We infer that the commenter is requesting that we withdraw the NPRM. We do not agree with the commenter's request. We have identified airworthiness limitations and maintenance requirements as mandatory for an airplane's continued airworthiness. An operator's failure to accomplish these instructions could result in a variety of unsafe conditions, including fatigue cracking and damage in principal structural elements; such fatigue cracking and damage could result in reduced structural integrity of the airplane.

In addition, we issue ADs to require actions to address unsafe conditions that are not otherwise being addressed (or are not addressed adequately) by normal maintenance procedures. We may address such unsafe conditions by requiring revisions to maintenance or inspection programs, as applicable, as a condition under which airplanes may continue to be operated. We have determined that it is necessary to issue this final rule.

Request To Include Method To Determine Flight Cycles

Kalitta requested that the proposed AD include a method for operators to determine the number of flight cycles on landing gear parts based on the part number or date of manufacture. The commenter pointed out that there was no previous requirement to track flight cycles on landing gear parts. The commenter stated that without a method to determine the number of flight cycles, its fleet would be grounded because it would not be able to comply with the requirements specified in the proposed AD.

The commenter also stated that a method for operators to determine the number of flight cycles on landing gear parts is related to its ability to satisfy the initial 90-day compliance time for accomplishing the actions specified in the proposed AD. The commenter noted that some of the affected airframes and parts have been in service over 50 years and during this 50-year period many of the affected parts were removed and installed on other airframes.

We partially agree with the commenter's request. This AD does not include a method for operators to determine the number of flight cycles on landing gear parts based on the part number or date of manufacture; however, this AD extends the initial compliance time for accomplishing the required actions.

In April 2015, Dassault issued “Falcon Service Advisory” FSA-05-40-003-R00-A, notifying operators of impending changes to the Airworthiness Limitations affecting the life limits of internal landing gear parts. Dassault also issued FSA-05-40-002-R00A, in April 2015, to provide guidance on determining the cycles-since-new of landing gear assemblies for operators that had not been rigorously tracking the cycles on life-limited parts. This FSA allowed operators to submit a “Landing Gear Survey” so that Dassault could help them “rebuild the life” of a given landing gear leg or subpart.

Dassault has informed us that it is in the process of creating an updated methodology for operators to follow if they do not know the exact number of flight cycles on landing gear parts for their airplanes. Therefore, we have revised paragraph (g) of this AD by extending the initial compliance time from 90 days after the effective date of this AD to 12 months after the effective date of this AD for accomplishing the actions specified in Chapter 5-40, Airworthiness Limitations, DGT 131028, Revision 17, dated September 2017, of the Dassault Aviation Falcon 20 Maintenance Manual. This will allow Dassault time to develop the methodology to determine the number of flight cycles on landing gear parts and provide this information to operators. We expect to approve this methodology as an alternative method of compliance (AMOC) to this AD. In addition, under the provisions of paragraph (j)(1) of this AD, we will consider requests for approval of an extension of the compliance time if sufficient data are submitted to substantiate that the extension would provide an acceptable level of safety.

Economic Impact of NPRM

Kalitta stated that the Regulatory Findings section of the NPRM did not take into account operators that have Model DA-20 airplanes as a significant portion of their fleet. The commenter noted that these operators should be considered “small entities,” are considered small businesses by the U.S. government, and could be economically destroyed by the proposed requirements of the NPRM.

The commenter also noted that, without a method to compute the flight cycles on landing gear parts, the costs of compliance estimate in the NPRM would be grossly underestimated because, instead of just replacement of the landing gear components, complete landing gear assemblies would have to be replaced.

We acknowledge the commenter's concern regarding the economic impact of this AD. However, as stated in the Regulatory Findings section of this final rule, we have determined that this AD will not have a significant economic impact, positive or negative, on a substantial number of small entities under the criteria of the Regulatory Flexibility Act. As stated earlier, we have extended the initial compliance time from 90 days to 12 months after the effective date of this AD. Extending the compliance time will reduce the impact to operators and should allow adequate time for Dassault to develop a methodology to determine the number of flight cycles on landing gear parts so that operators will not need to replace complete landing gear assemblies. As stated previously, we expect to approve this methodology as an AMOC to this AD.

In addition, under the provisions of paragraph (j)(1) of this AD, we will consider requests for approval of an extension of the compliance time if sufficient data are submitted to substantiate that the extension would provide an acceptable level of safety.

Conclusion

We reviewed the relevant data, considered the comments received, and determined that air safety and the public interest require adopting this final rule with the change described previously and minor editorial changes. We have determined that these minor changes:

• Are consistent with the intent that was proposed in the NPRM for addressing the unsafe condition; and

• Do not add any additional burden upon the public than was already proposed in the NPRM.

We also determined that these changes will not increase the economic burden on any operator or increase the scope of this final rule.

Related Service Information Under 1 CFR Part 51

Dassault has issued Chapter 5-40, Airworthiness Limitations, DGT 131028, Revision 17, dated September 2017, of the Dassault Aviation Falcon 20 Maintenance Manual. This service information describes, among other things, new or more restrictive airworthiness limitations and maintenance requirements; these include life limits for certain components, including the engine front mounts and the legs of the nose landing gear and main landing gear, and maintenance tasks for, among other systems, the air conditioning system and the passenger/crew door warning system.

This service information is reasonably available because the interested parties have access to it through their normal course of business or by the means identified in the ADDRESSES section.

Costs of Compliance

We estimate that this AD affects 168 airplanes of U.S. registry. We estimate the following costs to comply with this AD:

We have determined that revising the maintenance or inspection program takes an average of 90 work-hours per operator, although we recognize that this number may vary from operator to operator. In the past, we have estimated that this action takes 1 work-hour per airplane. Since operators incorporate maintenance or inspection program changes for their affected fleet(s), we have determined that a per-operator estimate is more accurate than a per-airplane estimate. Therefore, we estimate the total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-07-01 Dassault Aviation: Amendment 39-19612; Docket No. FAA-2018-0706; Product Identifier 2018-NM-086-AD.

(a) Effective Date

This AD is effective May 24, 2019.

(b) Affected ADs

This AD affects AD 2014-26-07, Amendment 39-18058 (80 FR 2815, January 21, 2015) (“AD 2014-26-07”).

(c) Applicability

This AD applies to Dassault Aviation Model FAN JET FALCON and FAN JET FALCON SERIES C, D, E, F, and G airplanes, certificated in any category, all serial numbers, except those on which the Dassault Fan Jet Falcon Supplemental Structural Inspection Program (Service Bulletin (SB) 730) has been embodied into the airplane's maintenance or inspection program.

(d) Subject

Air Transport Association (ATA) of America Code 05, Time Limits and Maintenance Checks.

(e) Reason

This AD was prompted by a determination of the need for a revision to the airplane airworthiness limitations to introduce changes to the maintenance requirements and airworthiness limitations. We are issuing this AD to address, among other things, fatigue cracking and damage in principal structural elements; such fatigue cracking and damage could result in reduced structural integrity of the airplane.

(f) Compliance

Comply with this AD within the compliance times specified, unless already done.

(g) Revision of Maintenance or Inspection Program

Within 12 months after the effective date of this AD, revise the existing maintenance or inspection program, as applicable, to incorporate the airworthiness limitations and maintenance requirements specified in Chapter 5-40, Airworthiness Limitations, DGT 131028, Revision 17, dated September 2017, of the Dassault Aviation Falcon 20 Maintenance Manual (MM). The initial compliance time for accomplishing the actions is at the applicable time specified in Chapter 5-40, Airworthiness Limitations, DGT 131028, Revision 17, dated September 2017, of the Dassault Aviation Falcon 20 MM; or within 12 months after the effective date of this AD; whichever occurs later. Where the threshold column in the table in paragraph B, Mandatory Maintenance Operations, of Chapter 5-40, Airworthiness Limitations, DGT 131028, Revision 17, dated September 2017, of the Dassault Aviation Falcon 20 MM specifies a compliance time in years, those compliance times are since the date of issuance of the original French or European Aviation Safety Agency (EASA) airworthiness certificate or date of issuance of the original French or EASA export certificate of airworthiness.

(h) No Alternative Actions or Intervals

After accomplishing the revision required by paragraph (g) of this AD, no alternative actions (e.g., inspections) or intervals may be used unless the actions and intervals are approved as an alternative method of compliance (AMOC) in accordance with the procedures specified in paragraph (j)(1) of this AD.

(i) Terminating Action for AD 2014-26-07

Accomplishing the actions required by paragraph (g) of this AD terminates all of the requirements of AD 2014-26-07.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k)(2) of this AD. Information may be emailed to: 9-ANM-116-AMOC-REQUESTS. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the EASA; or Dassault Aviation's EASA Design Organization Approval (DOA). If approved by the DOA, the approval must include the DOA-authorized signature.

(k) Related Information

(1) Refer to Mandatory Continuing Airworthiness Information (MCAI) EASA AD 2018-0083, dated April 16, 2018, for related information. This MCAI may be found in the AD docket on the internet at http://www.regulations.gov by searching for and locating Docket No. FAA-2018-0706.

(2) For more information about this AD, contact Tom Rodriguez, Aerospace Engineer, International Section, Transport Standards Branch, FAA, 2200 South 216th St., Des Moines, WA 98198; telephone and fax 206-231-3226.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Chapter 5-40, Airworthiness Limitations, DGT 131028, Revision 17, dated September 2017, of the Dassault Aviation Falcon 20 Maintenance Manual.

(ii) [Reserved]

(3) For service information identified in this AD, contact Dassault Falcon Jet Corporation, Teterboro Airport, P.O. Box 2000, South Hackensack, NJ 07606; telephone 201-440-6700; internet http://www.dassaultfalcon.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on April 10, 2019.
Michael Kaszycki,
Acting Director, System Oversight Division, Aircraft Certification Service.

[FR Doc. 2019-07939 Filed 4-18-19; 8:45 am]

BILLING CODE 4910-13-P